NATIONAL ARCHIVES AND RECORDS ADMINISTRATION

Agency Information Collection Activities: Proposed Collection; Comment Request

AGENCY: National Archives and Records Administration (NARA).

ACTION: Notice.

SUMMARY: NARA is giving public notice that the agency proposes to request use of a voluntary, electronic survey for the Information Security Oversight Office to determine general patterns of compliance, program strengths, and systematic weaknesses in the National Industrial Security Program (NISP). The public is invited to comment on the proposed information collection pursuant to the Paperwork Reduction Act of 1995.

DATES: Written comments must be received on or before August 12, 2002, to be assured of consideration.

ADDRESSES: Comments should be sent to: Paperwork Reduction Act Comments (NHP), Room 4400, National Archives and Records Administration, 8601 Adelphi Rd, College Park, MD 20740-6001; or faxed to 301-837-3213; or electronically mailed to tamee.fechhelm@nara.gov.

FOR FURTHER INFORMATION CONTACT: Requests for additional information or copies of the proposed information collection and supporting statement should be directed to Tamee Fechhelm at telephone number 301-837-1694, or fax number 301-837-3213.

SUPPLEMENTARY INFORMATION: Pursuant to the Paperwork Reduction Act of 1995 (Public Law 104-13), NARA invites the general public and other Federal agencies to comment on proposed information collections. The comments and suggestions should address one or more of the following points: (a) Whether the proposed information collection is necessary for the proper performance of the functions of NARA; (b) the accuracy of NARA's estimate of the burden of the proposed information collection; (c) ways to enhance the quality, utility, and clarity of the information to be collected; and (d) ways, including the use of information technology, to minimize the burden of the collection of information on respondents. The comments that are submitted will be summarized and included in the NARA request for Office of Management and Budget (OMB) approval. All comments will become a matter of public record. In this notice, NARA is soliciting comments concerning the following information collection:

Title: 2002 National Industrial Security Program (NIPS) Survey.

OMB number: 3095-NEW.

Agency form number: N/A.

Type of review: Emergency.

Affected public: Business or other for-profit.

Estimated number of respondents: 5,000.

Estimated time per response: 45 minutes.

Frequency of response: On occasion.

Estimated total annual burden hours: 3,750 hours.

Abstract: Executive Order 12829, “National Industrial Security Program,” requires the Information Security Oversight Office (ISOO) to exercise policy oversight on behalf of the National Security Council (NSC). ISOO's responsibilities include implementing and monitoring the National Industrial Security Program (NISP) and overseeing agency, contractor, licensee, and grantee actions in order to ensure that they comply with Executive Order 12829. This survey will enable ISOO to fulfill its responsibilities to report to the President regarding the status of the NISP.

Dated: July 16, 2002.
L. Reynolds Cahoon,
Assistant Archivist for Human Resources and Information Services.

[FR Doc. 02-18532 Filed 7-22-02; 8:45 am]

BILLING CODE 7515-01-P